DEPARTMENT OF ENERGY

Federal Energy Regulatory Commission

Sunshine Act; Notice

July 16, 2003.

The following notice of meeting is published pursuant to section 3(a) of the Government in the Sunshine Act (Pub. L. 94-409), 5 U.S.C 552B:

Agency Holding Meeting: Federal Energy Regulatory Commission.

Date and Time: July 23, 2003, 10 a.m.

Place: Room 2C, 888 First Street, NE., Washington, DC 20426.

Status: Open.

Matters to be Considered: Agenda.

*Note—Items listed on the Agenda may be deleted without further notice.

Contact Person for More Information: Magalie R. Salas, Secretary, telephone (202) 502-8400. For a recording listing items stricken from or added to the meeting, call (202) 502-8627.

This is a list of matters to be considered by the Commission. It does not include a listing of all papers relevant to the items on the Agenda; however, all public documents may be examined in the Reference and Information Center.

836th—Meeting July 23, 2003, Regular Meeting, 10 a.m.

ADMINISTRATIVE AGENDA

A-1.

DOCKET# AD02-1, 000, Agency Administrative Matters

A-2.

DOCKET# AD02-7, 000, Customer Matters, Reliability, Security and Market Operations

A-3.

Western Energy Infrastructure Conference

MARKETS, TARIFFS AND RATES—ELECTRIC

E-1.

DOCKET# RM02-1, 000, Standardization of Generator Interconnection Agreements and Procedures

E-2.

DOCKET# RM02-12, 000, Standardization of Small Generator Interconnection Agreements and Procedures

E-3.

OMITTED

E-4.

DOCKET# EL03-23, 000, Pacer Power LLC

E-5.

DOCKET# EL02-111, 000, Midwest Independent Transmission System Operator, Inc., et al.

E-6.

DOCKET# EL03-17, 000, Investigation of Certain Enron-Affiliated QF's

OTHER#S QF87-365, 005, Zond Windsystems Holding Company

QF90-43, 004, Victory Garden Phase IV Partnership

QF91-59, 005, Sky River Partnership and Zond Windsystems Partners, Ltd., Series 85-A

EL03-19, 000, Southern California Edison Company v. Enron Generating Facilities:

QF90-43, 005, Victory Garden Phase IV Partnership

QF91-59, 006, Sky River Partnership

QF95-186, 005, Cabazon Power Partners LLC,

QF85-687, 002, Zond Windsystems Partners, Ltd., Series 85-A

QF85-686, 002, Zond Windsystems Partners, Ltd., Series 85-B

ER03-521, 000, Cabazon Power Partners LLC

ER03-522, 000, Enron Wind Systems, LLC

ER03-523, 000, Zond Windsystem Partners, Ltd., Series 85-A

ER03-524, 000, Zond Windsystem Partners, Ltd., Series 85-B

ER03-525, 000, Sky River Partnership

ER03-526, 000, Victory Garden Phase IV Partnership

ER03-527, 000, ZWHC LLC

ER03-528, 000, Painted Hills Wind Developers

E-7.

DOCKET# EL02-113, 002, El Paso Electric Company, Enron Power Marketing, Inc. and Enron Capital and Trade Resource Corporation

OTHER#S EL02-113, 000, El Paso Electric Company, Enron Power Marketing, Inc. and Enron Capital and Trade Resource Corporation

E-8.

DOCKET# ER03-563, 002, Devon Power Company, Middletown Power LLC, Montville Power LLC, Norwalk Power LLC and NRG Power Marketing, Inc.

OTHER#S ER03-563, 003, Devon Power Company, Middletown Power LLC, Montville Power LLC, Norwalk Power LLC and NRG Power Marketing, Inc.

ER03-563, 004, Devon Power Company, Middletown Power LLC, Montville Power LLC, Norwalk Power LLC and NRG Power Marketing, Inc.

ER03-563, 005, Devon Power Company, Middletown Power LLC, Montville Power LLC, Norwalk Power LLC and NRG Power Marketing, Inc.

ER03-563, 006, Devon Power Company, Middletown Power LLC, Montville Power LLC, Norwalk Power LLC and NRG Power Marketing, Inc.

ER03-563, 007, Devon Power Company, Middletown Power LLC, Montville Power LLC, Norwalk Power LLC and NRG Power Marketing, Inc.

ER03-563, 008, Devon Power Company, Middletown Power LLC, Montville Power LLC, Norwalk Power LLC and NRG Power Marketing, Inc.

ER03-563, 009, Devon Power Company, Middletown Power LLC, Montville Power LLC, Norwalk Power LLC and NRG Power Marketing, Inc.

ER03-563, 010, Devon Power Company, Middletown Power LLC, Montville Power LLC, Norwalk Power LLC and NRG Power Marketing, Inc.

E-9.

DOCKET# ER03-559, 002, Automated Power Exchange, Inc.

E-10.

DOCKET# RT01-2, 005, PJM Interconnection L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities Inc.

OTHER#S RT01-2, 006, PJM Interconnection L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities Inc.

RT01-2, 007, PJM Interconnection L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities Inc.

RT01-2, 008, PJM Interconnection L.L.C., Allegheny Electric Cooperative, Inc., Atlantic City Electric Company, Baltimore Gas & Electric Company, Delmarva Power & Light Company, Jersey Central Power & Light Company, Metropolitan Edison Company, PECO Energy Company, Pennsylvania Electric Company, PPL Electric Utilities Corporation, Potomac Electric Power Company, Public Service Electric & Gas Company and UGI Utilities Inc.

ER03-738, 001, Allegheny Power System Operating Companies: Monongahela Power Company, Potomac Edison Company and West Penn Power Company, all d/b/a Allegheny Power Atlantic City Electric Company; Delmarva Power & Light Company, Baltimore Gas & Electric Company, Jersey Central Power & Light Company, Metropolitan Edison Company, Pennsylvania Electric Company, PECO Energy Company, PPL Electric Utilities Corporation, Potomac Electric Power Company, Public Service Electric & Gas Company, Rockland Electric Company and UGI Utilities Inc.

E-11.

DOCKET# EL03-125, 000, TransAlta Energy Marketing (U.S.) Inc. v. Bonneville Power Administration

E-12.

DOCKET# ER03-902, 000, Commonwealth Edison Company

E-13.

DOCKET# ER03-901, 000, Midwest Independent Transmission System Operator, Inc.

E-14.

DOCKET# ER03-896, 000, Southwest Power Pool, Inc.

E-15.

DOCKET# ER03-697, 000, PacifiCorp

E-16.

DOCKET# ER03-854, 000, ISO New England Inc.

OTHER#S ER03-854, 001, ISO New England Inc.

E-17.

DOCKET# ER03-453, 000, Allegheny Power System, Inc.

E-18.

DOCKET# ER98-3760, 008, California Independent System Operator Corporation

OTHER#S EC96-19, 059, Pacific Gas and Electric Company, San Diego Gas & Electric Company and Southern California Edison Company

ER96-1663, 062, Pacific Gas and Electric Company, San Diego Gas & Electric Company and Southern California Edison Company

E-19.

DOCKET# ER03-407, 002, California Independent System Operator Corporation

OTHER#S ER03-407, 003, California Independent System Operator Corporation

E-20.

OMITTED

E-21.

DOCKET# EL01-63, 004, PJM Interconnection, L.L.C.

E-22.

DOCKET# ER02-653, 002, PacifiCorp

E-23.

OMITTED

E-24.

OMITTED

E-25.

DOCKET# EF00-2012, 000, Bonneville Power Administration

OTHER#S EF00-2012, 001, Bonneville Power Administration

E-26.

OMITTED

E-27.

OMITTED

E-28.

DOCKET# ER03-379, 002, Southern Company Services, Inc.

OTHER#S ER03-379, 001, Southern Company Services, Inc.

E-29.

DOCKET# ER03-407, 001, California Independent System Operator Corporation

E-30.

DOCKET# EL03-50, 001, Powerex Corporation v. California Power Exchange Corporation

E-31.

DOCKET# EL02-121, 003, Occidental Chemical Corporation v. PJM Interconnection, L.L.C. and Delmarva Power & Light Company

OTHER#S EL02-121, 004, Occidental Chemical Corporation v. PJM Interconnection, L.L.C. and Delmarva Power & Light Company

E-32.

DOCKET# EL02-91, 001, Williams Energy Marketing & Trading Company v. Southern Company Services, Inc.

E-33.

DOCKET# ER02-2233, 005, Ameren Services Company, First Energy Corp., Northern Indiana Public Service Company, National Grid USA and Midwest Independent Transmission System Operator, Inc.

OTHER#S ER02-2233, 004, Ameren Services Company, First Energy Corp., Northern Indiana Public Service Company, National Grid USA and Midwest Independent Transmission System Operator, Inc.

E-34.

DOCKET# EL02-63, 002, Constellation Power Source, Inc. v. California Power Exchange Corporation

E-35.

DOCKET# PA02-2, 009, Fact-Finding Investigation into Possible Manipulation of Electric and Natural Gas Prices

E-36.

DOCKET# ER03-86, 003, Midwest Independent Transmission System Operator, Inc.

E-37.

OMITTED

E-38.

DOCKET# ER03-83, 003, TRANSLink Development Company, LLC

E-39.

DOCKET# ER03-601, 001, San Diego Gas & Electric Company

E-40.

DOCKET# EL03-130, 000, MidAmerican Energy Company v. Mid-Continent Area Power Pool

E-41.

OMITTED

E-42.

OMITTED

E-43.

OMITTED

E-44.

DOCKET# EL03-128, 000, D.E. Shaw Plasma Power, L.L.C.

E-45.

DOCKET# EL03-54, 000, Cities of Anaheim, Azusa, Banning, Colton, and Riverside, California and City of Vernon, California v. California Independent System Operator Corporation

E-46.

DOCKET# ER99-2326, 000, Pacific Gas and Electric Company

OTHER#S EL99-68, 000, Pacific Gas and Electric Company

E-47.

DOCKET# ER98-997, 000, California Independent System Operator Corporation

OTHER#S ER98-997, 002, California Independent System Operator Corporation

ER98-1309, 000, California Independent System Operator Corporation

ER02-2297, 001, California Independent System Operator Corporation

ER02-2298, 001, California Independent System Operator Corporation

E-48.

OMITTED

E-49.

DOCKET# ER99-28, 003, Sierra Pacific Power Company

OTHER#S EL99-38, 002, Sierra Pacific Power Company

ER99-945 002 Sierra Pacific Power Company

E-50.

DOCKET# ER03-978, 000, Southwest Power Pool, Inc.

E-51.

DOCKET# EL02-47, 000, Wisconsin Public Power, Inc. v. Wisconsin Power & Light Company

OTHER#S EL02-52, 000, Municipal Wholesale Power Group v. Wisconsin Power & Light Company Power

E-52.

DOCKET# PA03-1, 000, American Electric Power Company

OTHER#S PA03-2, 000, Aquila Merchant Services, Inc.

PA03-3, 000, Coral Energy Resources, LP

PA03-4, 000, CMS Marketing Services & Trading

PA03-5, 000, Dynegy, Inc.

PA03-6, 000, Duke Energy Trading & Marketing, LLC

PA03-7, 000, El Paso Merchant Energy, LP

PA03-8, 000, Mirant Americas Energy Marketing, LP

PA03-9, 000, Reliant Resources, Inc.

PA03-10, 000, Sempra Energy Trading Corp.

PA03-11, 000, Williams Energy Marketing & Trading Company

E-53.

DOCKET# ER02-2001, 000, Electric Quarterly Reports

OTHER#S ER94-1246, 000, Ashton Energy Corporation

ER95-751, 000, PowerGasSmart.com, Inc.

ER95-792, 000, K Power Company

ER95-878, 000, Audit Pro Incorporated

ER95-1381, 000, Alliance Strategies

ER95-1399, 000, Electech, Inc.

ER95-1752, 000, Enpower, Inc.

ER96-734, 000, Energy Marketing Services, Inc.

ER96-924, 000, Direct Access Management, L.P.

ER96-1283, 000, BTU Power Corporation

ER96-1503, 000, Eagle Gas Marketing Company

ER96-1631, 000, Family Fiber Connection, Inc.

ER96-1724, 000, SDS Petroleum Product Inc.

ER96-1731, 000, Engineered Energy Systems Corporation

ER96-1735, 000, GDK Corporation

ER96-1774, 000, Growth Unlimited Investments, Inc.

ER96-1781, 000, EnergyTek, Inc.

ER96-2524, 000, Symmetry Device Research, Inc.

ER96-2635, 000, Tosco Power, Inc.

ER96-2879, 000, U.S. Energy, Inc.

ER96-2942, 000, National Power Marketing L.L.C.

ER97-1117, 000, TC Power Solutions

ER97-1428, 000, American Power Reserve Marketing

ER97-1643, 000, APRA Energy Group Inc.

ER97-1676, 000, Black Brook Energy Company

ER97-3053, 000, Keystone Energy Services, Inc.

ER97-3526, 000, Woodruff Energy

ER97-3815, 000, Friendly Power Company, LLC

ER97-4145, 000, Sigma Energy, Inc.

ER97-4364, 000, PowerCom Energy & Communications Access, Inc.

ER97-4434, 000, Clean Air Capital Markets Corporation

ER97-4680, 000, Starghill Alternative Energy Corporation

ER98-102, 000, Current Energy, Inc.

ER98-174, 000, Millennium Energy Corporation

ER98-573, 000, Aurora Power Resources, Inc.

ER98-1221, 000, Micah Tech Industries, Inc.

ER98-1297, 000, TransCurrent, LLC

ER98-1486, 000, Equinox Energy, LLC

ER98-1829, 000, UtiliSource Corporation

ER98-2232, 000, People's Utility Corporation

ER98-2423, 000, The FURSTS Group, Inc.

ER98-3006, 000, K&K Resources, Inc.

ER98-3052, 000, PowerSource, Corporation

ER98-3451, 000, American Premier Energy Corporation

ER98-3934, 000, Clinton Energy Management Services, Inc.

ER98-4333, 000, Primary Power Marketing, L.L.C.

ER99-581, 000, Business Discount Plan, Inc.

ER99-823, 000, River City Energy, Inc.

ER99-1890, 000, Commodore Electric

ER99-2069, 000, Trident Energy Marketing, Inc.

ER99-2540, 000, Full Power Corporation

ER99-2970, 000, Delta Energy Group

ER99-3207, 000, Capital Center Generating Company LLC

ER00-500, 000, Sierra Pacific Energy Company

ER00-891, 000, Thermo Ecotek Corp.

ER00-1408, 000, Utilimax.com, Inc.

ER00-1530, 000, Energy & Steam Company, Inc.

ER00-2316, 000, Energy Systems Northeast, LLC

ER00-2448, 000, LSP-Nelson Energy, LLC

ER00-2535, 000, The New Power Company

ER00-2670, 000, Multifuels LP

ER00-2806, 000, B.L. England Power LLC

ER01-36, 000, USPower Energy, LLC

ER01-138, 000, Delta Person Limited Partnership

ER01-904, 000, North Carolina Power Holdings, LLC

ER01-1258, 000, New Haven Harbor Power LLC (NHHP)

ER01-1414, 000, Northern Lights Power Company

ER01-1497, 000, Brooke Power, LLC

ER01-2059, 000, Entrust Energy, LLC

ER02-30, 000, Longhorn Power, LP

ER02-159, 000, Great Lakes Hydro America, LLC

ER02-566, 000, Meriden Gas Turbines LLC

ER02-806, 000, Wisconsin Electric Power Company

ER02-893, 000, Dorman Materials, Inc.

E-54.

DOCKET# ER03-194, 002, PJM Interconnection L.L.C.

OTHER#S ER03-309, 001, Allegheny Power

ER03-309, 002, Allegheny Power

E-55.

DOCKET# EL02-119, 000, The Kroger Co. v. Dynergy Power Marketing, Inc.

MISCELLANEOUS AGENDA

M-1.

DOCKET# PL03-3, 000, Price Discovery in Natural Gas and Electric Markets

M-2.

DOCKET# PL03-4, 000, Policy Statement on Consultation with Indian Tribes in Commission Proceedings

M-3.

DOCKET# RM02-4, 001, Critical Energy Infrastructure Information

OTHER#S PL02-1, 001, Critical Energy Infrastructure Information

M-4.

DOCKET# RM02-7, 001, Accounting, Financial Reporting, and Rate Filing Requirements for Asset Retirement Obligations

M-5.

DOCKET# RM03-6, 000, Amendments to Conform Regulations with Order No. 630 (Critical Energy Infrastructure Information Final Rule)

MARKETS, TARIFFS AND RATES—GAS

G-1.

DOCKET# RP03-529, 000, ANR Pipeline Company

G-2.

DOCKET# PR03-9, 000, Louisiana Intrastate Gas Company, L.L.C.

G-3.

DOCKET# CP02-57, 004, SCG Pipeline, Inc.

G-4.

DOCKET# RP03-199, 000, Enbridge Pipelines (AlaTenn) L.L.C.

G-5.

DOCKET# RP03-335, 000, Enbridge Offshore Pipelines (UTOS) LLC

G-6.

DOCKET# RP03-465, 001, ANR Pipeline Company

G-7.

OMITTED

G-8.

DOCKET# RP01-411, 000, Kern River Gas Transmission Company

G-9.

DOCKET# RP02-318, 002, Questar Southern Trails Pipeline Company

G-10.

DOCKET# IS01-504, 001, BP Transportation (Alaska) Inc.

OTHER#S IS01-504, 000, BP Transportation (Alaska) Inc.

IS03-74, 000, BP Transportation (Alaska) Inc.

G-11.

DOCKET# GT02-38, 006, Northern Natural Gas Company

G-12.

DOCKET# RP00-331, 002, Algonquin Gas Transmission Company

OTHER#S RP00-331, 003, Algonquin Gas Transmission Company

RP01-23, 004, Algonquin Gas Transmission Company

RP01-23, 005, Algonquin Gas Transmission Company

RP03-176, 000, Algonquin Gas Transmission Company

G-13.

DOCKET# RP00-340, 004, Gulf South Pipeline Company, LP

OTHER#S RP00-340, 005, Gulf South Pipeline Company, LP

RP00-340, 007, Gulf South Pipeline Company, LP

RP01-7, 001, Gulf South Pipeline Company, LP

G-14.

DOCKET# RP00-476, 003, Southern Natural Gas Company

OTHER#S RP00-476, 004, Southern Natural Gas Company

RP00-476, 001, Southern Natural Gas Company

RP01-64, 001, Southern Natural Gas Company

G-15.

DOCKET# RP00-506, 004, Northwest Pipeline Corporation

OTHER#S RP00-506, 005, Northwest Pipeline Corporation

RP00-506, 006, Northwest Pipeline Corporation

RP00-506, 007, Northwest Pipeline Corporation

G-16.

DOCKET# RP00-327, 003, Columbia Gas Transmission Corporation

OTHER#S RP00-327, 002, Columbia Gas Transmission Corporation

RP00-327, 004, Columbia Gas Transmission Corporation

RP00-604, 001, Columbia Gas Transmission Corporation

RP00-604, 002, Columbia Gas Transmission Corporation

RP00-604, 004, Columbia Gas Transmission Corporation

G-17.

DOCKET# RP02-365, 001, Northern Natural Gas Company

G-18.

OMITTED

G-19.

OMITTED

G-20.

DOCKET# RP00-333, 004, Crossroads Pipeline Company

OTHER#S RP01-51, 003, Crossroads Pipeline Company

G-21.

DOCKET# RP03-150, 002, Northern Natural Gas Company

G-22.

DOCKET# OR02-13, 001, SFPP, L.P.

G-23.

OMITTED

G-24.

DOCKET# RP92-137 052 Transcontinental Gas Pipe Line Corp.

G-25.

DOCKET# RP96-320 040 Gulf South Pipeline Company, LP

G-26.

DOCKET# PR03-8, 000, Humble Gas Pipeline Company

OTHER#S PR03-8, 001, Humble Gas Pipeline Company

G-27.

DOCKET# PL02-6, 000, Natural Gas Pipeline Negotiated Rate Policies and Practices

ENERGY PROJECTS—HYDRO

H-1.

DOCKET# RM02-16, 000, Hydroelectric Licensing under the Federal Power Act

H-2.

DOCKET# P-2114, 115, The Yakama Nation v. Public Utility District No. 2 of Grant County, Washington

H-3.

DOCKET# P-2816, 020, Vermont Electric Generation & Transmission Cooperative, Inc., and North Hartland, L.L.C.

H-4.

DOCKET# P-11162, 011, Wisconsin Power & Light Company

ENERGY PROJECTS—CERTIFICATES

C-1.

DOCKET# CP02-78, 002, Maritimes & Northeast Pipeline, L.L.C.

C-2.

DOCKET# CP03-32, 000, Northwest Pipeline Corporation

C-3.

DOCKET# CP03-51, 000, Natural Gas Pipeline Company of America

C-4.

DOCKET# CP03-39, 000, Kinder Morgan Interstate Gas Transmission LLC

C-5.

DOCKET# CP01-94, 004, Nornew Energy Supply, Inc. and Norse Pipeline, L.L.C.

C-6.

DOCKET# CP02-396, 003, Greenbrier Pipeline Company, LLC

OTHER#S CP02-397, 003, Greenbrier Pipeline Company, LLC

CP02-398, 003, Greenbrier Pipeline Company, LLC

C-7.

DOCKET# CP01-409, 003, Tractebel Calypso Pipeline, LLC

OTHER#S CP01-410, 003, Tractebel Calypso Pipeline, LLC

CP01-411, 003, Tractebel Calypso Pipeline, LLC

CP01-444, 003, Tractebel Calypso Pipeline, LLC

C-8.

DOCKET# CP02-204, 001, Transcontinental Gas Pipe Line Corporation

Magalie R. Salas,
Secretary.

[FR Doc. 03-18784 Filed 7-18-03; 5:14 pm]

BILLING CODE 6717-01-P